DEPARTMENT OF THE INTERIOR

Fish and Wildlife Service

Notice of Availability of a Supplement to the Final Environmental Impact Statement for the Coachella Valley Multiple Species Habitat Conservation Plan and Natural Community Conservation Plan, Riverside County, CA

AGENCY: Fish and Wildlife Service, Interior.

ACTION: Notice of availability.

SUMMARY: This notice announces the availability of the Recirculated Draft Coachella Valley Multiple Species Habitat Conservation Plan/Natural Community Conservation Plan (MSHCP), Supplement to the Final Environmental Impact Statement/Recirculated Draft Environmental Impact Report (EIS/EIR), and Implementing Agreement for public review and comment. The Coachella Valley Association of Governments (CVAG), Coachella Valley Conservation Commission, County of Riverside, Riverside County Flood Control and Water Conservation District, Riverside County Parks and Open Space District, Riverside County Waste Management District, Coachella Valley Water District, Imperial Irrigation District, California Department of Transportation, California Department of Parks and Recreation, Coachella Valley Mountains Conservancy, and the cities of Cathedral City, Coachella, Indian Wells, Indio, La Quinta, Palm Desert, Palm Springs, and Rancho Mirage (Applicants) applied to the Fish and Wildlife Service (Service) for an incidental take permit pursuant to section 10(a)(1)(B) of the Endangered Species Act of 1973, as amended (Act). The Applicants also seek a Section 2835 permit under the California Natural Community Conservation Planning Act of 2002. The Applicants are requesting a permit to incidentally take 22 animal species and seeking assurances for 5 plant species, including 17 unlisted species should any of them become listed under the Act during the proposed 75-year term of the permit. The permit is needed to authorize incidental take of listed animal species (including harm, injury, and harassment) during development in the approximately 1.10 million-acre (1,719-square mile) Plan Area in the Coachella Valley of Riverside County, California.

The MSHCP also incorporates a Public Use and Trails Plan which includes proposals that address non-motorized recreation activities on Federal and non-Federal lands in the Santa Rosa and San Jacinto Mountains. The Bureau of Land Management (BLM) is a Cooperating Agency in this planning process and will use this EIS/EIR to make decisions on BLM-administered public lands pertaining to trail use in the Santa Rosa and San Jacinto Mountains. The proposals constitute activity (implementation) level actions in furtherance of the California Desert Conservation Area Plan (1980), as amended, and the Santa Rosa and San Jacinto Mountains National Monument Management Plan (2004). The BLM will issue a separate Record of Decision regarding non-motorized recreation activities on public lands.

A Supplement to the Final Environmental Impact Statement, which is the Federal portion of the EIS/EIR, has been prepared jointly by the Service and CVAG, along with the biological consultant, to analyze the impacts of the MSHCP and is also available for public review. The analyses provided in the EIS/EIR are intended to inform the public of the proposed action, alternatives, and associated impacts; disclose the direct, indirect, and cumulative environmental effects of the proposed action and each of the alternatives; and indicate any irreversible commitment of resources that would result from implementation of the proposed action. All of the alternatives in the EIS/EIR are the same as the alternatives identified in the Final MSHCP and Final EIS/EIS, dated February 6, 2006, with one exception: the Preferred Alternative without the City of Palm Springs is no longer included.

The Service and the cooperating agency issued a notice of intent to prepare an EIS/EIR for the proposed MSHCP, on June 28, 2000 (65 FR 39920); a notice of availability of the Draft EIS/EIR for the proposed MSHCP on November 5, 2004 (69 FR 64581); and a notice of availability of the Final EIS/EIR for the proposed MSHCP on April 21, 2006 (71 FR 20719).

The Service is issuing this notice to advise the public of revisions to the MSHCP and associated EIS/EIR which includes the following primary changes:

(1) Removing the City of Desert Hot Springs as an Applicant;

(2) including a Riverside County Flood Control/Water Conservation District flood control project as a Covered Activity within the Morongo Wash area, if the project meets the MSHCP's biological goals and objectives for the Covered Species and the biological goals and objectives for maintaining fluvial sand transport and providing an adequate corridor for habitat connectivity;

(3) identifying the revised Santa Rosa and San Jacinto Mountains Trails Plan as the chosen trails management alternative in the EIS/EIR. The Plan is structured to be consistent with larger recovery efforts for the bighorn sheep and takes an adaptive management approach to balancing its goals of: (a) Minimizing the risk of potential adverse impacts to Peninsular bighorn sheep from recreational activities, and (b) providing recreational opportunities for hikers, equestrians, and mountain bikers; and

(4) identifying changes to conservation area boundaries to reflect “like exchanges” approved by the applicants since the publication of the Final MSHCP, dated February 6, 2006. The “like exchanges” include Citrus Ranch, Lumkes Family Trust, Nott, Indio Water Authority Reservoirs, and the City of Cathedral City.

DATES: Written comments should be received on or before May 29, 2007.

ADDRESSES: Written comments should be sent to Mr. Jim Bartel, Field Supervisor, Fish and Wildlife Service, Carlsbad Fish and Wildlife Office, 6010 Hidden Valley Road, Carlsbad, California 92011. You may also submit comments by facsimile to 760-431-9624.

FOR FURTHER INFORMATION CONTACT: Ms. Therese O'Rourke, Assistant Field Supervisor, at the Carlsbad Fish and Wildlife Office above; telephone 760-431-9440.

SUPPLEMENTARY INFORMATION:

Availability of Documents

Documents available for public review include the permit applications, the MSHCP and Appendices I (the Technical Appendix) and II (the Planning Agreement), the accompanying Implementing Agreement, and the EIS/EIRs.

Individuals wishing copies of the documents should contact the Service by telephone at 760-431-9440, or by letter to the Carlsbad Fish and Wildlife Office (see FOR FURTHER INFORMATION CONTACT). Copies of the MSHCP, EIS/EIRs, and Implementing Agreement also are available for public review, by appointment, during regular business hours, at the Carlsbad Fish and Wildlife Office or at the Coachella Valley Association of Governments (see ADDRESSES). Copies are also available for viewing on the Internet at http://www.cvmshcp.org, in the Riverside County Planning Departments, and in each of the Applicant cities' public libraries:

(1) Riverside County Planning Department: 4080 Lemon Street, 9th Floor Riverside, California 92502.

(2) Riverside County Planning: 82675 Hwy 111, Room 209, Indio, California 92201.

(3) U.S. Bureau of Land Management: 690 Garnet Avenue, North Palm Springs, California 92258.

(4) City of Palm Springs: 3200 E. Tahquitz Canyon Way, Palm Springs, California 92262.

(5) City of Cathedral City: 68-700 Avenida Lalo Guerrero, Cathedral City, California 92234.

(6) City of La Quinta: 78-495 Calle Tampico, La Quinta, California 92253.

(7) City of Rancho Mirage: 69825 Highway 111, Rancho Mirage, California 92270.

(8) City of Palm Desert: 73-510 Fred Waring Drive, Palm Desert, California 92260

(9) City of Indio: 100 Civic Center Mall, Indio, California 92201

(10) City of Indian Wells: 44950 El Dorado Drive, Indian Wells, California 92210

(11) City of Coachella: 1515 Sixth Street, Coachella, California 92236

(12) Cathedral City Public Library: 33520 Date Palm Drive, Cathedral City, California 92234

(13) Coachella Branch Library: 1538 7th Street, Coachella Valley, California 92260

(14) Indio Public Library: 200 Civic Center Mall, Indio, California 92201

(15) Lake Tamarisk Branch Library: Lake Tamarisk Drive, Desert Center, California 92239

(16) La Quinta Public Library: 78080 Calle Estado, La Quinta, California 92253

(17) Mecca-North Shore Branch Library: 65250 Cahuilla, Mecca, California 92254

(18) Palm Springs City Library: 300 South Sunrise Way, Palm Springs, California 92262

(19) Rancho Mirage Public Library: 42-520 Bob Hope Drive, Rancho Mirage, California 92270

(20) Riverside County Library: Palm Desert Branch, 73-300 Fred Waring Drive, Palm Desert, California 92260

(21) Thousand Palms Library: 72-715 La Canada Way, Thousand Palms, California 92276

Background Information

A permit is needed because section 9 of the Act and Federal regulations prohibit the “take” of animal species listed as endangered or threatened (16 U.S.C. 1538). Take of listed animal species is defined under the Act to include kill, harm, harass, pursue, hurt, shoot, wound, capture or collect, or attempt to engage in any such conduct (16 U.S.C. 1532). Harm includes significant habitat modification or degradation that actually kills or injures listed animals by significantly impairing essential behavioral patterns, including breeding, feeding, and sheltering [50 CFR 17.3(c)]. Under limited circumstances, the Service may issue permits to authorize incidental take; i.e., take that is incidental to, and not the purpose of, otherwise lawful activity. Although take of plant species is not prohibited under the Act, and therefore cannot be authorized under an incidental take permit, plant species are proposed to be included on the permit in recognition of the conservation benefits provided to them under the MSHCP. Assurances provided under the No Surprises Rule at 50 CFR 17.3, 17.22(b)(5), and 17.32(b)(5) would extend to all species named on the permit. Regulations governing incidental take permits for threatened and endangered species are found in 50 CFR 17.32 and 17.22, respectively.

The EIS/EIR analyzes the impacts of the proposed implementation of the MSHCP by the Applicants. The Applicants seek an incidental take permit and assurances to incidentally take 22 animal species and assurances for 5 plants. Collectively, the 27 listed and unlisted species are referred to as “Covered Species” by the MSHCP and include 5 plant species (2 endangered, 3 unlisted); 2 insect species (both unlisted); 1 fish species (endangered); 1 amphibian species (endangered); 3 reptile species (2 threatened, 1 unlisted); 11 bird species (3 endangered, 8 unlisted); and 4 mammal species (1 endangered and 3 unlisted). [c1]

The MSHCP is intended to protect and sustain viable populations of native plant and animal species and their habitats in perpetuity through the creation of a reserve system, while accommodating continued economic development and quality of life for residents of the Coachella Valley. The MSHCP plan area includes the following eight incorporated cities: Cathedral City, Coachella, Indian Wells, Indio, La Quinta, Palm Desert, Palm Springs, and Rancho Mirage. It is one of two large, multiple-jurisdictional habitat planning efforts in Riverside County, each of which constitutes a “subregional” plan under the State of California's Natural Communities Conservation Planning Act, as amended.

The MSHCP identifies the proposed reserve system which will be established from lands within 21 conservation areas that are either adjacent or linked by biological corridors. When completed, the reserve system will include core habitat for Covered Species, essential ecological processes, and biological corridors and linkages to provide for the conservation of the proposed Covered Species.

The Final MSHCP was approved by the CVAG's Executive Committee on February 6, 2006, and by all local Permittees except one between March and June 2006. No action was taken by State Permittees. The MSHCP is being revised at the direction of the Executive Committee, following the City of Desert Hot Springs' decision not to approve the MSHCP on June 20, 2006. After Desert Hot Springs declined to approve the MSHCP, the Executive Committee rescinded its approval. The Recirculated Draft MSHCP includes the Applicants identified above with the exception of Desert Hot Springs.

Public Comments

The Service and CVAG invite the public to comment on the MSHCP, Implementing Agreement, and EIS/EIR during a 60-day public comment period beginning the date of this notice. Our practice is to make comments, including names, home addresses, home phone numbers, and email addresses of respondents, available for public review. Individual respondents may request that we withhold their names and /or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

This notice is provided pursuant to section 10(a) of the Act and Service regulations for implementing NEPA. The Service will evaluate the application, associated documents, and comments submitted thereon to prepare a Final Supplemental EIS. A permit decision will be made no sooner than 30 days after the publication of the Final Supplemental EIS.

Dated: March 16, 2007.
Ken McDermond,
Deputy Manager, California/Nevada Operations Office, Sacramento, California.

[FR Doc. E7-5914 Filed 3-29-07; 8:45 am]

BILLING CODE 4310-55-P